DEPARTMENT OF TRANSPORTATION

Federal Aviation Administration

14 CFR Part 39

[Docket No. FAA-2018-1066; Product Identifier 2018-NM-176-AD; Amendment 39-19540; AD 2019-01-01]

RIN 2120-AA64

Airworthiness Directives; The Boeing Company Airplanes

AGENCY: Federal Aviation Administration (FAA), DOT.

ACTION: Final rule; correction.

SUMMARY: The FAA is correcting an airworthiness directive (AD) that published in the Federal Register. That AD applies to The Boeing Company Model 787-8 airplanes powered by Rolls-Royce plc (RR) Trent 1000-A (including -A/01 and -A/01A), Trent 1000-AE (including -AE/01A), Trent 1000-C (including -C/01 and -C/01A), Trent 1000-CE (including -CE/01A), Trent 1000-D (including -D/01 and -D/01A), Trent 1000-E (including -E/01 and -E/01A), Trent 1000-G (including -G/01 and -G/01A), and Trent 1000-H (including -H/01 and H/01A) turbofan engines. As published, a document referenced in the regulatory text was incorrectly identified. This document corrects that error. In all other respects, the original document remains the same.

DATES: This correction is effective February 4, 2019.

ADDRESSES:

Examining the AD Docket

You may examine the AD docket on the internet at http://www.regulations.gov; or in person at the Docket Management Facility between 9 a.m. and 5 p.m., Monday through Friday, except Federal holidays. The AD docket contains this AD, the regulatory evaluation, any comments received, and other information. The address for Docket Operations (phone: 800-647-5527) is Docket Management Facility, U.S. Department of Transportation, Docket Operations, M-30, West Building Ground Floor, Room W12-140, 1200 New Jersey Avenue SE, Washington, DC 20590.

FOR FURTHER INFORMATION CONTACT: Rebel Nichols, Aerospace Engineer, Propulsion Section, FAA, Seattle ACO Branch, 2200 South 216th St., Des Moines, WA 98198; phone and fax: 206- 231-3556; email: Rebel.Nichols@faa.gov.

SUPPLEMENTARY INFORMATION: As published, Airworthiness Directive 2019-01-01, Amendment 39-19540 (84 FR 129, January 18, 2019) (“AD 2019-01-01”), requires revising the airplane flight manual (AFM) to limit extended operations (ETOPS) for The Boeing Company Model 787-8 airplanes powered by RR Trent 1000-A (including -A/01 and -A/01A), Trent 1000-AE (including -AE/01A), Trent 1000-C (including -C/01 and -C/01A), Trent 1000-CE (including -CE/01A), Trent 1000-D (including -D/01 and -D/01A), Trent 1000-E (including -E/01 and -E/01A), Trent 1000-G (including -G/01 and -G/01A), and Trent 1000-H (including -H/01 and H/01A) turbofan engines.

Need for the Correction

As published, a document specified in the regulatory text is incorrect. Specifically, a service bulletin that is referenced in figure 1 to paragraph (g) of AD 2019-01-01 was incorrectly identified as Rolls Royce Non Modification Service Bulletin Trent 1000 “72-AK132.” The correct number is “72-K132.” Service bulletin “72-AK132” does not exist, and therefore, operators cannot directly comply with the AD requirement that refers to that service bulletin.

Correction of Publication

The error appeared in figure 1 to paragraph (g) of AD 2019-01-01. Although no other part of the preamble or regulatory information has been corrected, we are publishing the entire rule in the Federal Register.

The effective date of this AD remains February 4, 2019.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive (AD):

2019-01-01 The Boeing Company: Amendment 39-19540; Docket No. FAA-2018-1066; Product Identifier 2018-NM-176-AD.

(a) Effective Date

This AD is effective February 4, 2019.

(b) Affected ADs

None.

(c) Applicability

This AD applies to The Boeing Company Model 787-8 airplanes, certificated in any category, powered by Rolls-Royce plc (RR) Trent 1000-A (including -A/01 and -A/01A), Trent 1000-AE (including -AE/01A), Trent 1000-C (including -C/01 and -C/01A), Trent 1000-CE (including -CE/01A), Trent 1000-D (including -D/01 and -D/01A), Trent 1000-E (including -E/01 and -E/01A), Trent 1000-G (including -G/01 and -G/01A), and Trent 1000-H (including -H/01 and H/01A) turbofan engines.

(d) Subject

Air Transport Association (ATA) of America Code 71, Power plant.

(e) Unsafe Condition

This AD was prompted by a report from the engine manufacturer indicating that after an engine failure, prolonged operation at high thrust settings on the remaining engine during an extended-operation (ETOPS) diversion may result in failure of the remaining engine before the diversion can be safely completed. We are issuing this AD to address unrecoverable thrust loss on both engines, which could lead to a forced landing.

(f) Compliance

Comply with this AD within the compliance times specified, unless already done.

(g) Revision of Limitations Chapter in Airplane Flight Manual (AFM)

Within 7 days after the effective date of this AD, revise the Certificate Limitations chapter of the applicable Boeing AFM Engine Appendix by incorporating the information in figure 1 to paragraph (g) of this AD. This may be accomplished by inserting a copy of this AD into the AFM. When information identical to that in figure 1 to paragraph (g) of this AD has been included in the Certificate Limitations chapter of the general revisions of the AFM, the general revisions may be inserted into the AFM, and the copy of this AD may be removed from the AFM.

Note 1 to paragraph (g) of this AD: The Boeing AFM for the aircraft affected by this AD is required to be furnished with the aircraft, per 14 CFR 25.1581. Further, operators of the aircraft affected by this AD must operate in accordance with the limitations specified in the AFM, per 14 CFR 91.9.

(h) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(i) Related Information

For more information about this AD, contact Rebel Nichols, Aerospace Engineer, Propulsion Section, FAA, Seattle ACO Branch, 2200 South 216th St., Des Moines, WA 98198; phone and fax: 206-231-3556; email: Rebel.Nichols@faa.gov.

(j) Material Incorporated by Reference

None.

Issued in Des Moines, Washington, on January 23, 2019.
Jeffrey E. Duven,
Director, System Oversight Division, Aircraft Certification Service.

[FR Doc. 2019-00297 Filed 1-28-19; 8:45 am]

BILLING CODE 4910-13-P